DEPARTMENT OF LABOR

Employment and Training Administration

[TA-W-65,113]

Maine Woods Company, Portage Lake, ME; Notice of Termination of Investigation

Pursuant to Section 221 of the Trade Act of 1974, as amended, an investigation was initiated on February 4, 2009 in response to a worker petition filed by a company official on behalf of workers of Maine Woods Company, Portage Lake, Maine.

The petitioners have requested that the petition be withdrawn. Consequently, the investigation has been terminated.

Signed at Washington, DC, this 8th day of April 2009.
Elliott S. Kushner,
Certifying Officer, Division of Trade Adjustment Assistance.

[FR Doc. E9-10567 Filed 5-6-09; 8:45 am]

BILLING CODE 4510-FN-P